DEPARTMENT OF ENERGY

Federal Energy Regulatory Commission

[Docket No. RP04-116-001]

Texas Eastern Transmission, LP; Notice of Compliance Filing

January 30, 2004.

Take notice that on January 26, 2004, Texas Eastern Transmission, LP (Texas Eastern) tendered for filing as part of its FERC Gas Tariff, Seventh Revised Volume No. 1, Sub Original Sheet No. 521A, to be effective January 18, 2004.

Texas Eastern states that it is making this filing in compliance with an Order issued by the Commission in the captioned docket on January 16, 2004. The January 16 Order accepted Original Sheet No. 521A, subject to Texas Eastern's submission, within 15 days, of revised tariff language reflecting certain modifications specified in the order.

Texas Eastern states that copies of its filing have been served upon all affected customers of Texas Eastern and interested State commissions, and to all parties on the official service list compiled by the Secretary of the Commission in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-208 Filed 2-5-04; 8:45 am]

BILLING CODE 6717-01-P